DEPARTMENT OF HEALTH AND HUMAN SERVICES

Centers for Disease Control and Prevention

[60Day-15-15BCU; Docket No. CDC-2015-0074]

Proposed Data Collections Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collections, as required by the Paperwork Reduction Act of 1995. This notice invites comment on the National Ambulatory Medical Care Survey (NAMCS) on Culturally and Linguistically Appropriate Services (CLAS) Survey. The purpose of the NAMCS CLAS survey is to describe the awareness, training, adoption, and implementation of the Enhanced Standards for CLAS in Health and Health Care among office-based physicians.

DATES: Written comments must be received on or before October 27, 2015.

ADDRESSES: You may submit comments, identified by Docket No. CDC-2015-0074 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

FOR FURTHER INFORMATION CONTACT: Leroy A. Richardson, Information Collection Review Office, Centers for Disease Control and Prevention,1600 Clifton Road NE., MS-D74, Atlanta, Georgia 30329; phone: 404-639-7570.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

National Ambulatory Medical Care Survey (NAMCS) on Culturally and Linguistically Appropriate Services (CLAS) Survey—New—National Center for Health Statistics (NCHS), Centers for Disease Control and Prevention (CDC).

Background and Brief Description

As the population of the United States becomes increasingly diverse, it is important that health care providers deliver culturally and linguistically competent services. Culturally and linguistically appropriate services (CLAS) are respectful of and responsive to individual cultural health beliefs and practices, preferred languages, health literacy levels, and communication needs. The National CLAS Standards in Health and Health Care were established in 2000 by the Office of Minority Health (OMH), Department of Health and Human Services (DHHS) to advance health equity, improve quality, and eliminate health care disparities. In 2013, OMH published the Enhanced Standards for CLAS in Health and Health Care to revise the National CLAS Standards in order to reflect advancements made since 2000, expand their scope and improve their clarity to ensure better understanding and implementation. Although there has been increased awareness and efforts to train culturally and linguistically competent health care providers, there has not been a systematic evaluation of the level of adoption or implementation of the National CLAS Standards among physicians. Due to the limited understanding of how the Standards are adopted and implemented, it is difficult to know what goals have been achieved and which need more work.

OMH came to NCHS' Division of Health Care Statistics with this project because of our expertise collecting data from physicians in the NAMCS. The NAMCS CLAS project meets two of the Division's missions: Conduct multidisciplinary research directed towards development of new scientific knowledge on the provision, use, quality, and appropriateness of ambulatory care; and develop and sustain collaborative partnerships internally within DHHS and externally with public, private, domestic and international entities on health care statistics programs. The purpose of the NAMCS CLAS survey is to describe the awareness, training, adoption, and implementation of the Enhanced Standards for CLAS in Health and Health Care among office-based physicians. The information will be collected directly from physician respondents through an online survey, paper form or telephone administration. Information that will be collected includes demographic information, specialty, number of years the physician has provided direct patient care, training related to cultural competency and the National CLAS Standards, provision of CLAS to patients, organizational characteristics that helped or prevented provision of CLAS, and awareness of the National CLAS Standards.

The target universe of the CLAS survey includes non-federally employed physicians who were classified by the American Medical Association or the American Osteopathic Association as providing “office-based, patient care.” The target universe excludes physicians in the specialties of anesthesiology, radiology, and pathology. The survey sample of 2,400 physicians will be used as the basis to provide regional and national estimates. Participation in the CLAS survey is voluntary. There will be no financial incentive to participate.

The CLAS survey will be a self-administered online questionnaire, with paper form and telephone administration as follow-up alternatives for non-respondents. A three-year approval will be requested.

There is no cost to the respondents other than their time.

Estimated Annualized Burden Hours
Type of respondent | Form name | Number of respondents | Number of responses per respondent | Average burden per response (in hours) | Total burden hours
Office-based physicians | NAMCS CLAS Survey | 800 | 1 | 30/60 | 400
Total |  |  |  |  | 400

Leroy A. Richardson,
Chief, Information Collection Review Office, Office of Scientific Integrity, Office of the Associate Director for Science, Office of the Director, Centers for Disease Control and Prevention.

[FR Doc. 2015-21343 Filed 8-27-15; 8:45 am]

BILLING CODE 4163-18-P